THE NATIONAL FOUNDATION ON THE ARTS AND HUMANITIES

Institute of Museum and Library Services; Proposed Collection, Comment Request, Program Evaluation of an IMLS Workshop To Foster Discussion of Collaborative Activities Among Libraries, Museums, and K-12 Education

ACTION: Notice, request for comments.

SUMMARY: The Institute of Museum and Library Services, as part of its continuing effort to reduce paperwork and respondent burden, invites the general public and federal agencies to comment on proposed and/or continuing collections of information in accordance with the Paperwork Reduction Act of 1995 (PRA95) (44 U.S.C. 3508(2)(A)). This pre-clearance comment opportunity helps to ensure that: Requested data can be provided in the desired format, reporting burden (time and financial resources) is minimized, collection instruments are clearly understood, and the impact of collection requirements on respondents can be properly assessed. The Institute of Museum and Library Services is currently soliciting comments concerning its planned evaluation of a workshop to foster discussion of strengthening K-12 education through collaborations among museums, libraries, and K-12 education.

A copy of the proposed information collection request can be obtained by contacting the individual listed below in the addressee section of this notice.

DATES: Written comments must be submitted to the office listed in the addressee section below on or before November 15, 2004.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including through the use of appropriate automate electronic, mechanical, or other technological collection techniques or other forms of information technology, e.g., permitting electronic submissions of responses.

ADDRESSES: Send comments to: Karen Motylewski, Research Officer, Institute of Museum and Library Services, 1100 Pennsylvania Ave., NW., Room 223, Washington, DC 20506. Ms. Motylewski can be reached on telephone: 202-606-5551; fax: 202-606-0395; or by e-mail at kmotylewski@imls.gov.

SUPPLEMENTARY INFORMATION:

I. Background

The Institute of Museum and Library Services is charged with promoting the improvement of library and museum services for the benefit of the public. Through grantmaking and leadership activities, IMLS seeks to assure that libraries and museums are able to play an active role in cultivating an educated and engaged citizenry. IMLS builds the capacity of libraries and museums by encouraging the highest standards in management, public service, and education; leadership in the use of technology; strategic planning for results, and partnerships to create new networks that support lifelong learning and the effective management of assets.

According to its strategic plan, IMLS is dedicated to creating and sustaining a nation of learners by helping libraries and museums service their communities. IMLS believes that libraries and museums are key resources for education in the United States and promotes the vision of a learning society in which learning is seen as a community-wide responsibility supported by both formal and informal educational entities.

II. Current Actions

Under its convening authority IMLS brought together 60 professionals from the fields of museum, library, and K-12 education on August 30-31, 2004, to explore the current status of knowledge about the learning outcomes, impact, and potential implications of formal collaboration among organizations and institutions in these fields. IMLS's purpose was to increase cross-disciplinary information sharing for the purposes of strengthening learning in the K-12 years and building collaborations to support formal K-12 education. In accordance with the President's Management Agenda, the Government Performance and Results Act of 1993, and the Office of Management and Budget program assessment initiatives, IMLS wishes to measure the extent to which this meeting met IMLS's goals.

Agency: Institute of Museum and Library Services.

Title: Program evaluation of a workshop to foster discussion of strengthening learning through collaborations among libraries, museums, and K-12 education.

OMB Number: n/a.

Agency Number: 3137.

Frequency: One time.

Affected Public: Museums, libraries, K-12 education outlets.

Number of Respondents: 60.

Estimated Time Per Respondent: 15 minutes.

Total Burden Hours: 4.

Total Annualized Capital/Startup Costs: 0.

Total Annual Costs: 0.

FOR FURTHER INFORMATION CONTACT: Karen Motylewski, Research Officer, Office of Research and Technology, Institute of Museum and Library Services, 1100 Pennsylvania Avenue, NW., Washington, DC 20506, e-mail kmotylewski@imls.gov, telephone (202) 606-5551.

Dated: September 9, 2004.
Rebecca Danvers,
Director, Office of Research and Technology.

[FR Doc. 04-20747 Filed 9-14-04; 8:45 am]

BILLING CODE 7036-01-M